DEPARTMENT OF TRANSPORTATION

[Docket No. DOT-MARAD-2016-0030]

Agency Requests for Renewal of a Previously Approved Information Collection(s): United States Merchant Marine Academy (USMMA) Alumni Survey

AGENCY: Maritime Administration, DOT.

ACTION: Notice and request for comments.

SUMMARY: In accordance with the paperwork Reduction Act of 1995, the Maritime Administration (MARAD) invites public comments about our intention to request the Office of Management and Budget's (OMB) approval to renew an information collection. The purpose of the collection is to conduct alumni survey to document student perceptions about education received at the U.S. Merchant Marine Academy (USMMA). The results from the survey will not be used for any type of forecasting or projecting. The results will be tabulated and documented as indirect evidence for accreditation purposes.

DATES: Written comments should be submitted by June 6, 2016.

ADDRESSES: You may submit comments [identified by Docket No. DOT-MARAD-2016-0030] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Dr. David Palmer, (516) 726-5707, U.S. Merchant Marine Academy, Kings Point, NY 11024.

SUPPLEMENTARY INFORMATION:Q OMB Control Number: 2133-0542.

Title: U.S. Merchant Marine Academy Alumni Survey.

Form Numbers: KP2-66-DK1, KP2-67-DK2, KP2-68-DK3, KP2-69-ENG1, KP2-70-ENG2, KP2-71-ENG3.

Type of Review: Renewal of an information collection.

Background: The United States Merchant Marine Academy is an accredited federal service academy that confers BS and MS degrees. The Academy is expected to assess its educational outcomes and report those findings to its Regional Accreditation authority in order to maintain the institution's degree granting status. Periodic survey of alumni cohorts and analysis of the data gathered is a routine higher education assessment practice in the United States.

Respondents: Respondents are graduates of the U.S. Merchant Marine Academy.

Number of Respondents: 600.

Frequency: Annually.

Number of Responses: 600.

Total Annual Burden: 150.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

Dated: March 21, 2016.
T. Mitchell Hudson, Jr.,
Secretary, Maritime Administration.

[FR Doc. 2016-08003 Filed 4-6-16; 8:45 am]

BILLING CODE 4910-81-P